FEDERAL DEPOSIT INSURANCE CORPORATION

Agency Information Collection Activities: Proposed Collection Renewal; Comment Request Re Forms Relating to Processing Deposit Insurance Claims

AGENCY: Federal Deposit Insurance Corporation (FDIC).

ACTION: Notice of proposed information collection renewal and comment request.

SUMMARY: The FDIC, as part of its continuing effort to reduce paperwork and respondent burden, invites the general public and other Federal agencies to take this opportunity, as required by the Paperwork Reduction Act of 1995 (4 U.S.S. chapter 35), to comment on renewal of its information collection entitled, “Forms Related to Processing Deposit Insurance Claims” (OMB No. 3064-0143).

DATES: Comments must be submitted on or before April 8, 2013.

ADDRESSES: Interested parties are invited to submit written comments. All comments should refer to the name of the collection. Comments may be submitted by any of the following methods:

• http://www.FDIC.gov/regulations/laws/federal/propose.html.

• Email: comments@fdic.gov.

• Mail: Leneta G. Gregorie (202.898.3719), Counsel, Federal Deposit Insurance Corporation, 550 17th Street NW., Room NY-5050, Washington, DC 20429.

• Hand Delivery: Comments may be hand-delivered to the guard station at the rear of the 550 17th Street Building (located on F Street), on business days between 7:00 a.m. and 5:00 p.m.

A copy of the comments may also be submitted to the FDIC Desk Officer, Office of Information and Regulatory Affairs, Office of Management and Budget, New Executive Office Building, Room 10235, Washington, DC 20503.

FOR FURTHER INFORMATION CONTACT: For further information about this information collection, please contact Leneta G. Gregorie, by telephone at (202) 898-3719 or by mail at the address identified above. In addition, copies of the forms contained in the collection can be obtained at the FDIC's Web site: http://www.fdic.gov/regulations/laws/FORMS/claims.html.

SUPPLEMENTARY INFORMATION: The FDIC is requesting OMB approval to renew the following information collection:

Title: Forms Related to Processing of Deposit Insurance Claims.

Forms Currently In Use:

Declaration for Public Unit Deposit, Form 7200/04

Declaration for Trust, Form 7200/05

Declaration of Independent Activity, Form 7200/06

Declaration of Independent Activity for Unincorporated Association, Form 7200/07

Declaration for Joint Ownership Deposit, Form 7200/08

Declaration for Testamentary Deposit (Multiple Grantors), Form 7200/09

Declaration for Defined Contribution Plan, Form 7200/10

Declaration for IRA/KEOGH Deposit, Form 7200/11

Declaration for Defined Benefit Plan, Form 7200/12

Declaration of Custodian Deposit, Form 7200/13

Declaration for Health and Welfare Plan, Form 7200/14

Declaration for Plan and Trust, Form 7200/15

Declaration for Irrevocable Trust, Form 7200/18

Estimated Number of Respondents and Burden Hours for Forms in Use:

FDIC document | Hours per response | Number of respondents | Burden hours
Declaration for Public Unit Deposit, Form 7200/04 | 0.50 | 500 | 250
Declaration for Trust, Form 7200/05 | 0.50 | 900 | 450
Declaration of Independent Activity, Form 7200/06 | 0.50 | 25 | 12.5
Declaration of Independent Activity for Unincorporated Association, Form 7200/07 | 0.50 | 25 | 12.5
Declaration for Joint Ownership Deposit, Form 7200/08 | 0.50 | 25 | 12.5
Declaration for Testamentary Deposit, Form 7200/09 | 0.50 | 1,500 | 750
Declaration for Defined Contribution Plan, Form 7200/10 | 1.0 | 50 | 50
Declaration for IRA/KEOGH Deposit, Form 7200/11 | 0.50 | 50 | 25
Declaration for Defined Benefit Plan, Form 7200/12 | 1.0 | 200 | 200
Declaration of Custodian Deposit, Form 7200/13 | 0.50 | 50 | 25
Declaration for Health and Welfare Plan, Form 7200/14 | 1.0 | 200 | 200
Declaration for Plan and Trust, Form 7200/15 | 0.50 | 1300 | 650
Declaration for Irrevocable Trust, Form 7200/18 | 0.50 | 200 | 100
Sub-total |  | 5025 | 2,738
Additional Burden for Deposit Brokers Only |  | 70 | 137
Total |  | 5095 | 2,875

General Description of Collection: The collection involves forms used by the FDIC to obtain information from individual depositors and deposit brokers necessary to supplement the records of failed depository institutions to make determinations regarding deposit insurance coverage for depositors of failed institutions. The information provided allows the FDIC to identify the actual owners of an account and each owner's interest in the account.

Request for Comment

Comments are invited on: (a) Whether these collections of information are necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 1st day of February, 2013.
Federal Deposit Insurance Corporation.
Robert E. Feldman,
Executive Secretary.

[FR Doc. 2013-02693 Filed 2-6-13; 8:45 am]

BILLING CODE 6714-01-P